DEPARTMENT OF HEALTH AND HUMAN SERVICES

Centers for Medicare & Medicaid Services

Privacy Act of 1974: CMS Computer Matching Program Match No. 2013-01; HHS Computer Matching Program Match No. 1312

AGENCY: Centers for Medicare & Medicaid Services (CMS), Department of Health and Human Services (HHS).

ACTION: Notice of Computer Matching Program (CMP).

SUMMARY: In accordance with the requirements of the Privacy Act of 1974 (5 U.S.C. 552a), as amended, this notice announces the renewal of a CMP that CMS plans to conduct with the Purchased Care at the Health Administration Center (PC@HAC) of the Department of Veteran Affairs. We have provided background information about the proposed matching program in the “Supplementary Information” section below. Although the Privacy Act requires only that CMS provide an opportunity for interested persons to comment on the proposed matching program, CMS invites comments on all portions of this notice. See “Effective Dates” section below for comment period.

DATES: Effective Dates: CMS filed a report of the CMP with the Chair of the House Committee on Government Reform and Oversight, the Chair of the Senate Committee on Governmental Affairs, and the Administrator, Office of Information and Regulatory Affairs, Office of Management and Budget (OMB). We will not disclose any information under a matching agreement until 40 days after filing a report to OMB and Congress or 30 days after publication. We may defer implementation of this matching program if we receive comments that persuade us to defer implementation.

ADDRESSES: The public should address comments to: CMS Privacy Officer, Division of Privacy Policy (DPP), Privacy Policy and Compliance Group (PPCG), Office of E-Health Standards & Services (OESS), CMS, Mailstop S2-24-25, 7500 Security Boulevard, Baltimore, Maryland 21244-1850. Comments received will be available for review at this location, by appointment, during regular business hours, Monday through Friday from 9 a.m.-3 p.m., eastern daylight time.

SUPPLEMENTARY INFORMATION:

I. Description of the Matching Program

A. General

The Computer Matching and Privacy Protection Act of 1988 (Pub. L. 100-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals. The Privacy Act, as amended, regulates the use of computer matching by Federal agencies when records in a system of records (SOR) are matched with other Federal, state, or local government records. It requires Federal agencies involved in computer matching programs to:

1. Negotiate written agreements with the other agencies participating in the matching programs;

2. Obtain the Data Integrity Board approval of the match agreements;

3. Furnish detailed reports about matching programs to Congress and OMB;

4. Notify applicants and beneficiaries that the records are subject to matching; and,

5. Verify match findings before reducing, suspending, terminating, or denying an individual's benefits or payments.

B. CMS Computer Matches Subject to the Privacy Act

CMS has taken action to ensure that all CMPs that this Agency participates in comply with the requirements of the Privacy Act of 1974, as amended.

Dated: November 21, 2013.
Michelle Snyder,
Chief Operating Officer, Centers for Medicare & Medicaid Services.

CMS Computer Match No. 2013-01; HHS Computer Match No. 1312

Name:

“Computer Matching Agreement between the Centers for Medicare & Medicaid Services (CMS) and the Purchased Care at the Health Administration Center (PC@HAC) of the Department of Veterans Affairs for Verification of CHAMPVA Eligibility.”

Security Classification:

None

Participating Agencies:

The Centers for Medicare & Medicaid Services, and Purchased Care at the Health Administration Center (PC@HAC) of the Department of Veterans Affairs.

AUTHORITY FOR CONDUCTING MATCHING PROGRAM:

This Computer Matching Program (CMP) is executed to comply with the provisions of Public Laws (Pub. L.) 93-82, 94-581, 102-190, and 107-14 (codified at Title 38 United States Code (U.S.C.) 1713) that restrict CHAMPVA eligibility for benefits dependent upon a beneficiary's Medicare Part A and Part B status. This computer matching program will match CHAMPVA applicants and beneficiaries with Medicare Part A and B beneficiaries.

Purpose(s) of the Matching Program:

The purpose of this computer matching agreement is to establish the conditions, safeguards and procedures under which the CMS and PC@HAC will conduct a computer-matching program to determine entitlement to CHAMPVA benefits. Under the terms of this matching agreement, PC@HAC will provide to CMS a list of social security numbers (SSN) for all CHAMPVA eligible beneficiaries who may also be eligible for Medicare benefits. This information is maintained in PC@HAC's System of Records (SOR) entitled “Health Administration Center Civilian Health and Medical Program Records-VA.” CMS agrees to conduct a computer match of the SSNs of beneficiaries provided by PC@HAC against the information found in CMS's Enrollment Database (EDB) SOR. PC@HAC will receive the results of the computer match in order to determine a beneficiary's eligibility for care under CHAMPVA.

Categories of Records and Individuals Covered By the Match:

Upon establishment of the CHAMPVA program under Public Law 93-82, CHAMPVA entitlement will be terminated when any individual becomes eligible for Medicare Part A (Hospital Insurance) on a non-premium basis. Public Law 94-581 provided for reinstatement of CHAMPVA as second payer for beneficiaries aged 65 and over who exhausted a period of Medicare Part A (Hospital Insurance). These beneficiaries must also be enrolled in Medicare Part B (Medical Insurance) in order to retain their CHAMPVA entitlement. Public Law 102-190 extended CHAMPVA benefit to age 65 for any beneficiary eligible for Medicare Part A on the basis of disability/end stage renal disease (ESRD) only if that individual is also enrolled in Medicare Part B. Public Law 107-14 provided for extending benefit coverage for beneficiaries over the age of 65 years if the beneficiary is in receipt of Medicare Part A and Medicare Part B.

Description of Records To Be Used In the Matching Program:

A. Systems of Records

1. Records Maintained by PC@HAC

The information used in this matching program is maintained in the PC@HAC system identified as 54VA16, entitled “Health Administration Center Civilian Health and Medical Program Records-VA,” last published at 68 Fed. Reg. 53784 (September 12, 2003). SSNs of CHAMPVA beneficiaries will be released to CMS pursuant to the routine use number 21 as set forth in the system notice.

2. Records Maintained by CMS

The matching program will be conducted with data maintained by CMS in the EDB, System No. 09-70-0502, published at 73 Fed. Reg. 10249 (February 26, 2008). Matched data will be released to PC@HAC pursuant to the routine use number 2 as set forth in the system notice.

Inclusive Dates of the Match:

The CMP shall become effective no sooner than 40 days after the report of the Matching Program is sent to OMB and Congress, or 30 days after publication in the Federal Register, whichever is later. The matching program will continue for 18 months from the effective date and may be extended for an additional 12 months thereafter, if certain conditions are met.

[FR Doc. 2013-29066 Filed 12-4-13; 8:45 am]

BILLING CODE 4120-03-P